DEPARTMENT OF DEFENSE

Department of the Army, Corps of Engineers

Notice of Extension of Public Comment Period for the Interim Report for the Buffalo Bayou and Tributaries, Texas Resiliency Study

AGENCY: Department of the Army, U.S. Army Corps of Engineers, DoD.

ACTION: Notice of extension.

SUMMARY: A notice of availability was published in the Federal Register by the U.S. Army Corps of Engineers (USACE) on October 2, 2020 for the Buffalo Bayou and Tributaries, Texas Resiliency Study (BBTRS) notifying the public an Interim Report was available for review and comment. The notice indicated the review period was to conclude on November 2, 2020. Four virtual public meetings were held in October 2020 in an effort to provide the public with an overview of Interim Report and answer questions about the study and alternatives considered. In response to several requests for extension, this notice announces an extension of the public comment period to November 20, 2020. No additional public meetings have been scheduled during the extension period.

DATES: This notice announces an 18-day extension of the public comment period. Written comments on the Interim Report must be received by email or post-marked by November 20, 2020.

ADDRESSES: The Interim Report and additional pertinent information about the study can be found at: https://www.swg.usace.army.mil/Missions/Projects/BBTRS/. Written comments may be mailed to USACE, Galveston District, ATTN: BBTRS, P.O. Box 1229, Galveston, TX, 77553-1229 or submitted electronically by email to BBTRS@usace.army.mil.

FOR FURTHER INFORMATION CONTACT: Ms. Shelby Scego, USACE, Regional Planning and Environmental Center, at 918-669-7423 or BBTRS@usace.army.mil.

SUPPLEMENTARY INFORMATION:

1. Background. USACE, in partnership with the Harris County Flood Control District (HCFCD), as the non-Federal sponsor, began a feasibility study in 2018 to identify, evaluate, and recommend actions to reduce flood risks along Buffalo Bayou and its tributaries, both upstream and downstream of Addicks and Barker dams. The study will also complete a Dam Safety Modification Evaluation on Addicks and Barker dams. The BBTRS is authorized under Section 216 of the Flood Control Act of 1970 (Pub. L. 91-611) and existing project authority. Section 216 authorizes USACE to review a completed navigation, flood risk reduction, water supply, or related project due to significantly changed physical or economic conditions, and to report to Congress with recommendations regarding modification of the project's structures or operation, and for improving the quality of the environment in the overall public interest.

2. Interim Report. On October 2, 2020, the USACE released an Interim Report for the study. The Interim Report presents alternatives that could reduce the risk of flooding in the Buffalo Bayou, Addicks Reservoir, Barker Reservoir, and upper Cypress Creek watersheds in Harris, Fort Bend, and Waller counties, Texas. The report also evaluates alternatives for dam safety modifications to the Addicks and Barker dams. The report does not identify a preferred alternative nor does it make any recommendations or decisions.

The Interim Report is an added step to the feasibility study process and is intended to explain updated information, present the focused array of alternatives, and seek public feedback that will inform the next level of evaluation to identify a Tentatively Selected Plan (TSP). The TSP may be a single alternative or comprised of several alternatives from the focused array under consideration.

Note: This is not a Notice of Extension associated with the release of a Draft Environmental Impact Statement (EIS) in accordance with the National Environmental Policy Act. This is an interim step intended to gather public feedback before a Draft EIS is released.

3. Solicitation of Comments: The USACE is soliciting comments on the Interim Report from the public, Federal, State, and local agencies, elected officials, Tribal Nations, and other interested parties. The public comment period initially began on October 2, 2020, but has been extended to November 20, 2020. Public comments may be submitted by email or through postal mail at the addresses provided above.

4. Public Participation and Meetings: Four virtual public meetings were held in October 2020. Over 450 people participated in the virtual meetings, which included an overview of the alternatives being considered and a question and answer session. No additional public meetings are scheduled during the extension period.

5. Identification of Tentatively Selected Plan and Availability of Draft EIS. Depending on input received on the Interim Report, USACE estimates issuing a Draft Feasibility Report and Draft Environmental Impact Statement for public review and comment in early 2021. At that time, USACE will provide a 45-day public review period, in accordance with the National Environmental Policy Act (NEPA). USACE will notify all interested agencies, organizations, and individuals of the availability of the draft document at that time.

Pete G. Perez,
Director, Programs Directorate.

[FR Doc. 2020-24969 Filed 11-10-20; 8:45 am]

BILLING CODE 3720-58-P